SECURITIES AND EXCHANGE COMMISSION

[File No. 500-1]

In the Matter of Caspian International Oil Corporation, Elevate, Inc., Frawley Corporation, Groen Brothers Aviation, Inc., and Logic Devices, Incorporated; Order of Suspension of Trading

June 23, 2016.

It appears to the Securities and Exchange Commission (“Commission”) that there is a lack of current and accurate information concerning the securities of Caspian International Oil Corporation (“CIOC ¹”) (CIK No. 816958), a void Delaware corporation located in Houston, Texas with a class of securities registered with the Commission pursuant to Securities Exchange Act of 1934 (“Exchange Act”) Section 12(g) because it is delinquent in its periodic filings with the Commission, having not filed any periodic reports since it filed a Form 10-Q for the period ended September 30, 2008. On April 12, 2011, the Commission's Division of Corporation Finance (“Corporation Finance”) sent a delinquency letter to CIOC requesting compliance with its periodic filing requirements but CIOC did not receive the delinquency letter due to its failure to maintain a valid address on file with the Commission as required by Commission rules (Rule 301 of Regulation S-T, 17 CFR 232.301 and Section 5.4 of EDGAR Filer Manual) (“Commission Issuer Address Rules”). As of June 16, 2016, the common stock of CIOC was quoted on OTC Link operated by OTC Markets Group Inc. (formerly “Pink Sheets”) (“OTC Link”), had two market makers, and was eligible for the “piggyback” exception of Exchange Act Rule 15c2-11(f)(3).

¹ The short form of each issuer's name is also its stock symbol.

It appears to the Commission that there is a lack of current and accurate information concerning the securities of Elevate, Inc. (“ELEV”) (CIK No. 1424415), a defaulted Nevada corporation located in San Clemente, California with a class of securities registered with the Commission pursuant to Exchange Act Section 12(g) because it is delinquent in its periodic filings with the Commission, having not filed any periodic reports since it filed a Form 10-Q for the period ended February 29, 2012. On January 28, 2016, Corporation Finance sent a delinquency letter to ELEV requesting compliance with its periodic filing requirements but ELEV did not receive the delinquency letter due to its failure to maintain a valid address on file with the Commission as required by Commission Issuer Address Rules. As of June 16, 2016, the common stock of ELEV was quoted on OTC Link, had six market makers, and was eligible for the “piggyback” exception of Exchange Act Rule 15c2-11(f)(3).

It appears to the Commission that there is a lack of current and accurate information concerning the securities of Frawley Corporation (“FRWL”) (CIK No. 38824), a void Delaware corporation located in Agoura Hills, California with a class of securities registered with the Commission pursuant to Exchange Act Section 12(g) because it is delinquent in its periodic filings with the Commission, having not filed any periodic reports since it filed a Form 10-K for the period ended December 31, 2011. On November 21, 2011, Corporation Finance sent a delinquency letter to FRWL requesting compliance with its periodic filing requirements but FRWL did not receive the delinquency letter due to its failure to maintain a valid address on file with the Commission as required by Commission Issuer Address Rules. As of June 16, 2016, the common stock of FRWL was quoted on OTC Link, had four market makers, and was eligible for the “piggyback” exception of Exchange Act Rule 15c2-11(f)(3).

It appears to the Commission that there is a lack of current and accurate information concerning the securities of Groen Brothers Aviation, Inc. (“GNBA”) (CIK No. 870743), an expired Utah corporation located in Salt Lake City, Utah with a class of securities registered with the Commission pursuant to Exchange Act Section 12(g) because it is delinquent in its periodic filings with the Commission, having not filed any periodic reports since it filed a Form 10-K for the period ended June 30, 2012. On February 22, 2016, Corporation Finance sent a delinquency letter to GNBA requesting compliance with its periodic filing requirements but GNBA did not receive the delinquency letter due to its failure to maintain a valid address on file with the Commission as required by Commission Issuer Address Rules. As of June 16, 2016, the common stock of GNBA was quoted on OTC Link, had five market makers, and was eligible for the “piggyback” exception of Exchange Act Rule 15c2-11(f)(3).

It appears to the Commission that there is a lack of current and accurate information concerning the securities of Logic Devices, Incorporated (“LOGC”) (CIK No. 802851), a suspended California corporation located in Sunnyvale, California with a class of securities registered with the Commission pursuant to Exchange Act Section 12(g) because it is delinquent in its periodic filings with the Commission, having not filed any periodic reports since it filed a Form 10-Q for the period ended June 30, 2012. On November 14, 2013, Corporation Finance sent a delinquency letter to LOGC requesting compliance with its periodic filing requirements but LOGC did not receive the delinquency letter due to its failure to maintain a valid address on file with the Commission as required by Commission Issuer Address Rules. As of June 16, 2016, the common stock of LOGC was quoted on OTC Link, had five market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 23, 2016, through 11:59 p.m. EDT on July 7, 2016.

By the Commission.
Jill M. Peterson,
Assistant Secretary.

[FR Doc. 2016-15214 Filed 6-23-16; 11:15 am]

BILLING CODE 8011-01-P